DEPARTMENT OF COMMERCE

International Trade Administration

[C-201-866, C-549-855]

Certain Chassis and Subassemblies Thereof From Mexico and Thailand: Initiation of Countervailing Duty Investigations

AGENCY: Enforcement and Compliance, International Trade Administration, Department of Commerce.

DATES: Applicable March 18, 2025.

FOR FURTHER INFORMATION CONTACT: Jose Rivera at (202) 482-0842 (Mexico) and Ian Riggs at (202) 482-3810 (Thailand), AD/CVD Operations, Enforcement and Compliance, International Trade Administration, U.S. Department of Commerce, 1401 Constitution Avenue NW, Washington, DC 20230.

SUPPLEMENTARY INFORMATION:

The Petitions

On February 26, 2025, the U.S. Department of Commerce (Commerce) received countervailing duty (CVD) petitions concerning imports of certain chassis and subassemblies thereof (chassis) from Mexico and Thailand filed in proper form on behalf of the U.S. Chassis Manufacturers Coalition (the petitioner),¹ the members of which are domestic producers of chassis.² The CVD Petitions were accompanied by antidumping duty (AD) petitions concerning imports of chassis from Mexico, Thailand, and the Socialist Republic of Vietnam.³

¹ The members of the U.S. Chassis Manufacturers Coalition are Cheetah Chassis Corporation and Stoughton Trailers, LLC.

² See Petitioner's Letter, “Petitions for the Imposition of Antidumping and Countervailing Duties,” dated February 26, 2025 (Petitions).

³ Id.

Between February 28, and March 10, 2025, Commerce requested supplemental information pertaining to certain aspects of the Petitions in supplemental questionnaires.⁴ Between March 4 and 11, 2025, the petitioner filed timely responses to these requests for additional information.⁵

⁴ See Commerce's Letters, “Supplemental Questions,” dated February 28, 2025 (First General Issues Questionnaire); see also Country-Specific Supplemental Questionnaires: Mexico Supplemental and Thailand Supplemental, dated March 3, 2025; Memorandum, “Phone Call with Counsel to the Petitioner,” dated March 7, 2025 (March 7, 2025 Scope Memorandum); and Commerce's Letter, “Supplemental Questions,” dated March 10, 2025 (Third General Issues Questionnaire).

⁵ See Petitioner's Letters, “Petitioner Response to 1st Supplemental Questionnaire Regarding Common Issues and Injury Volume I of the Petition,” dated March 4, 2025 (First General Issues Supplement); Country-Specific CVD Supplemental Responses: Mexico CVD Supplement, dated March 5, 2025; First Thailand CVD Supplement, dated March 7, 2025; and Second Thailand CVD Supplement, dated March 10, 2025; “Petitioner Response to 2nd Supplemental Questionnaire Regarding Common Issues and Injury Volume I of the Petition,” dated March 10, 2025 (Second General Issues Supplement); and “Petitioner Response to 3rd Supplemental Questionnaire Regarding Common Issues and Injury Volume I of the Petition,” dated March 11, 2025 (Third General Issues Supplement). The petitioner also filed a supplement correcting a clerical error and providing a complete replacement of Exhibit I-13 of Volume I of the Petitions. See Petitioner's Letter, “Supplement to Exhibit I-13 of Volume I General Issues Petition,” dated February 27, 2025 (Revised Exhibit I-13).

In accordance with section 702(b)(1) of the Tariff Act of 1930, as amended (the Act), the petitioner alleges that the Government of Mexico (GOM) and Government of Thailand (GOT) (collectively, Governments) are providing countervailable subsidies, within the meaning of sections 701 and 771(5) of the Act, to producers of chassis in Mexico and Thailand, and that such imports are materially injuring, or threatening material injury to, the domestic industry producing chassis in the United States. Consistent with section 702(b)(1) of the Act and 19 CFR 351.202(b), for those alleged programs on which we are initiating CVD investigations, the Petitions were accompanied by information reasonably available to the petitioner supporting its allegations.

Commerce finds that the petitioner filed the Petitions on behalf of the domestic industry, because the petitioner is an interested party, as defined in section 771(9)(F) of the Act.⁶ Commerce also finds that the petitioner demonstrated sufficient industry support with respect to the initiation of the requested CVD investigations.⁷

⁶ The members of the petitioning coalition are interested parties under section 771(9)(C) of the Act.

⁷ See section on “Determination of Industry Support for the Petitions,” infra.

Periods of Investigation

Because the Petitions were filed on February 26, 2025, the period of investigation for the Mexico and Thailand CVD investigations is January 1, 2024, through December 31, 2024.⁸

⁸ See 19 CFR 351.204(b)(2).

Scope of the Investigations

The products covered by these investigations are chassis from Mexico and Thailand. For a full description of the scope of these investigations, see the appendix to this notice.

Comments on the Scope of the Investigations

On February 28, and March 7, 2025, Commerce requested information and clarification from the petitioner regarding the proposed scope to ensure that the scope language in the Petition is an accurate reflection of the products for which the domestic industry is seeking relief.⁹ On March 4, and 10, 2025, the petitioner provided clarifications and revised the scope.¹⁰ The description of merchandise covered by these investigations, as described in the appendix to this notice, reflects these clarifications.

⁹ See First General Issues Questionnaire; see also March 7, 2025, Memorandum.

¹⁰ See First General Issues Supplement at 2-6 and Exhibits I-Supp-4 through I-Supp-6; see also Second General Issues Supplement at 1-8 and Exhibits I-Supp2-1 and I-Supp2-2.

As discussed in the Preamble to Commerce's regulations, we are setting aside a period for interested parties to raise issues regarding product coverage (i.e., scope).¹¹ Commerce will consider all comments received from interested parties and, if necessary, will consult with interested parties prior to the issuance of the preliminary determinations. If scope comments include factual information, all such factual information should be limited to public information.¹² Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on April 7, 2025, which is 20 calendar days from the signature date of this notice. Any rebuttal comments, which may include factual information, and should also be limited to public information, must be filed by 5:00 p.m. ET on April 17, 2025, which is 10 calendar days from the initial comment deadline.

¹¹ See Antidumping Duties; Countervailing Duties; Final Rule, 62 FR 27296, 27323 (May 19, 1997) (Preamble).

¹² See 19 CFR 351.102(b)(21) (defining “factual information”).

Commerce requests that any factual information that parties consider relevant to the scope of these investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOM and GOT of the receipt of the Petitions and provided an opportunity for consultations with respect to the Petition.¹⁴ Commerce held consultations with the GOM on March 14, 2025,¹⁵ and the GOT on March 12, 2025.¹⁶

¹⁴ See Commerce's Letters, “Invitation for Consultations to Discuss the Countervailing Duty Petition,” dated February 27, 2025.

¹⁵ See Memorandum, “Consultations with the Government of Mexico,” dated March 14, 2025; see also GOM's Letter, “GOM's Submission,” dated March 14, 2025.

¹⁶ See Memorandum, “Consultations with the Government of Thailand,” dated March 12, 2025; see also GOT's Letter, “Statement for the Consultations Regarding the Petition to Initiate a Countervailing Duty Investigation,” dated March 12, 2025.

Additionally, given the nature of certain subsidy programs alleged in the Petitions, on February 27, 2025, Commerce issued a letter to the Government of the People's Republic of China (China), providing the Government of China (GOC) with the opportunity to meet with Commerce officials.¹⁷ The GOC did not request to meet with meet with Commerce officials.¹⁸

¹⁷ See Commerce's Letter, “Alleged Transnational Subsidy Programs,” dated February 27, 2025.

¹⁸ The GOC submitted comments on the CVD petitions. See GOC's Letters, “Alleged Transnational Subsidy Programs,” dated March 14, 2025.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁹ they do so for different purposes and pursuant to a separate and distinct authority. In addition, Commerce's determination is subject to limitations of time and information. Although this may result in different definitions of the like product, such differences do not render the decision of either agency contrary to law.²⁰

¹⁹ See section 771(10) of the Act.

²⁰ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.²¹ Based on our analysis of the information submitted on the record, we have determined that chassis, as defined in the scope, constitute a single domestic like product, and we have analyzed industry support in terms of that domestic like product.²²

²¹ See Petition at Volume I (pages 22-26 and Exhibits I-3, I-17, and I-18); see also First General Issues Supplement at 8-10; and Third General Issues Supplement at 1-4 and Exhibits I-Supp3-1 and I-Supp3-2.

²² For a discussion of the domestic like product analysis as applied to these cases and information regarding industry support, see Checklists, “Countervailing Duty Investigation Initiation Checklists: Certain Chassis and Subassemblies Thereof from Mexico, Thailand, and the Socialist Republic of Vietnam,” dated concurrently with, and hereby adopted by, this notice (Country-Specific CVD Initiation Checklists), at Attachment II, Analysis of Industry Support for the Antidumping and Countervailing Duty Petitions Covering Certain Chassis and Subassemblies Thereof from Mexico, Thailand, and the Socialist Republic of Vietnam (Attachment II). These checklists are on file electronically via ACCESS.

In determining whether the petitioner has standing under section 702(c)(4)(A) of the Act, we considered the industry support data contained in the Petitions with reference to the domestic like product as defined in the “Scope of the Investigations,” in the appendix to this notice. To establish industry support, the petitioner provided the 2024 production of the domestic like product for the U.S. producers that support the Petitions and compared this to the estimated total production of the domestic like product in 2024 by the entire U.S. chassis industry.²³ We relied on data provided by the petitioner for purposes of measuring industry support.²⁴

²³ Id.

²⁴ For further discussion, see Attachment II of the Country-Specific CVD Initiation Checklists.

Our review of the data provided in the Petitions, the First General Issues Supplement, and other information readily available to Commerce indicates that the petitioner has established industry support for the Petitions.²⁵ First, the Petitions established support from domestic producers (or workers) accounting for more than 50 percent of the total production of the domestic like product and, as such, Commerce is not required to take further action in order to evaluate industry support (e.g., polling).²⁶ Second, the domestic producers (or workers) have met the statutory criteria for industry support under section 702(c)(4)(A)(i) of the Act because the domestic producers (or workers) who support the Petitions account for at least 25 percent of the total production of the domestic like product.²⁷ Finally, the domestic producers (or workers) have met the statutory criteria for industry support under section 702(c)(4)(A)(ii) of the Act because the domestic producers (or workers) who support the Petitions account for more than 50 percent of the production of the domestic like product produced by that portion of the industry expressing support for, or opposition to, the Petitions.²⁸ Accordingly, Commerce determines that the Petitions were filed on behalf of the domestic industry within the meaning of section 702(b)(1) of the Act.²⁹

²⁵ Id.

²⁶ Id.; see also section 702(c)(4)(D) of the Act.

²⁷ See Attachment II of the Country-Specific CVD Initiation Checklists.

²⁸ Id.

²⁹ Id.

Injury Test

Because Mexico and Thailand are “Subsidies Agreement Countries” within the meaning of section 701(b) of the Act, section 701(a)(2) of the Act applies to these investigations. Accordingly, the ITC must determine whether imports of the subject merchandise from Mexico and/or Thailand materially injure, or threaten material injury to, a U.S. industry.

Allegations and Evidence of Material Injury and Causation

The petitioner alleges that imports of the subject merchandise are benefiting from countervailable subsidies and that such imports are causing, or threaten to cause, material injury to the U.S. industry producing the domestic like product. In addition, the petitioner alleges that subject imports from Mexico and Thailand exceed the negligibility threshold provided for under section 771(24)(A) of the Act.³⁰

³⁰ For further information regarding negligibility and the injury allegation, see Country-Specific CVD Initiation Checklists at Attachment III, Analysis of Allegations and Evidence of Material Injury and Causation for the Antidumping Duty and Countervailing Duty Petitions Covering Certain Chassis and Subassemblies Thereof from Mexico, Thailand, and the Socialist Republic of Vietnam (Attachment III).

The petitioner contends that the industry's injured condition is illustrated by the significant increase in the volumes of subject imports; reduced market share; underselling and price depression and/or suppression; lost sales and revenues; declines in domestic producers' U.S. shipments, production, and capacity utilization; decline in employment variables; adverse impact on financial performance; and negative impact on the existing development and production efforts of the domestic industry.³¹ We assessed the allegations and supporting evidence regarding material injury, threat of material injury, causation, cumulation, as well as negligibility, and we have determined that these allegations are properly supported by adequate evidence and meet the statutory requirements for initiation.³²

³¹ Id.

³² Id.

Initiation of CVD Investigations

Based upon the examination of the Petitions and supplemental responses, we find that they meet the requirements of section 702 of the Act. Therefore, we are initiating CVD investigations to determine whether imports of chassis from Mexico and Thailand benefit from countervailable subsidies conferred by the GOM and GOT, respectively. In accordance with section 703(b)(1) of the Act and 19 CFR 351.205(b)(1), unless postponed, we will make our preliminary determinations no later than 65 days after the date of this initiation.

Mexico

Based on our review of the Petitions, we find that there is sufficient information to initiate a CVD investigation on 19 of the 19 programs alleged by the petitioner. For a full discussion of the basis for our decision to initiate on each program, see the Mexico CVD Initiation Checklist. A public version of the initiation checklist for this investigation is available on ACCESS.

Thailand

Based on our review of the Petitions, we find that there is sufficient information to initiate a CVD investigation on 20 of the 20 programs alleged by the petitioner. For a full discussion of the basis for our decision to initiate on each program, see the Thailand CVD Initiation Checklist. A public version of the initiation checklist for this investigation is available on ACCESS.

Respondent Selection

In the Petitions, the petitioner identified 13 companies in Mexico and three companies in Thailand as producers and/or exporters of chassis.³³ Commerce intends to follow its standard practice in CVD investigations and calculate company-specific subsidy rates in these investigations. In the event that Commerce determines that the number of companies is large and it cannot individually examine each company based on Commerce's resources, Commerce normally selects mandatory respondents in CVD investigations using U.S. Customs and Border Protection (CBP) entry data for U.S. imports under the appropriate Harmonized Tariff Schedule of the United States (HTSUS) subheading(s) listed in the “Scope of the Investigations” in the appendix. However, for these investigations, the main HTSUS subheadings under which the subject merchandise would enter (8716.39.0090 and 8716.90.5060) are basket categories under which non-subject merchandise may also enter. Therefore, instead of relying on CBP entry data in selecting respondents, we intend to issue quantity and value (Q&V) questionnaires to each potential respondent for which there is complete address information on the record.

³³ See Petitions at Volume I (page 18 and Exhibit I-13); see also Revised Exhibit I-13; and First General Issues Supplement at 1-2 and Exhibits I-Supp-1 and I-Supp-17.

Commerce will post the Q&V questionnaires along with filing instructions on Commerce's website at https://www.trade.gov/ec-adcvd-case-announcements. Producers/exporters of chassis from Mexico and Thailand that do not receive Q&V questionnaires may still submit a response to the Q&V questionnaire and can obtain a copy of the Q&V questionnaire from Commerce's website. Responses to the Q&V questionnaire must be submitted by the relevant producers/exporters no later than 5:00 p.m. ET on April 1, 2025, which is two weeks from the signature date of this notice. All Q&V questionnaire responses must be filed electronically via ACCESS. An electronically filed document must be received successfully, in its entirety, by ACCESS no later than 5:00 p.m. ET on the deadline noted above.

Interested parties must submit applications for disclosure under administrative protective order (APO) in accordance with 19 CFR 351.305(b). Instructions for filing such applications may be found on Commerce's website at https://www.trade.gov/administrative-protective-orders.

Distribution of Copies of the Petitions

In accordance with section 702(b)(4)(A) of the Act and 19 CFR 351.202(f), a copy of the public version of the Petitions has been provided to the GOM and GOT via ACCESS. To the extent practicable, we will attempt to provide a copy of the public version of the Petitions to each exporter named in the Petitions, as provided under 19 CFR 351.203(c)(2).

ITC Notification

Commerce will notify the ITC of its initiation, as required by section 702(d) of the Act.

Preliminary Determinations by the ITC

The ITC will preliminarily determine, within 45 days after the date on which the Petitions were filed, whether there is a reasonable indication that imports of chassis from Mexico and/or Thailand are materially injuring, or threatening material injury to, a U.S. industry.³⁴ A negative ITC determination for either country will result in the investigation being terminated with respect to that country.³⁵ Otherwise, these CVD investigations will proceed according to statutory and regulatory time limits.

³⁴ See section 703(a)(1) of the Act.

³⁵ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁶ and, if the information is submitted to rebut, clarify, or correct factual information already on the record, to provide an explanation identifying the information already on the record that the factual information seeks to rebut, clarify, or correct.³⁷ Time limits for the submission of factual information are addressed in 19 CFR 351.301, which provides specific time limits based on the type of factual information being submitted. Interested parties should review the regulations prior to submitting factual information in these investigations.

³⁶ See 19 CFR 351.301(b).

³⁷ See 19 CFR 351.301(b)(2).

Time Limits for Submission of Factual Information in Response to Questionnaires

Section 351.301(c) of Commerce's regulations states that during a proceeding, Commerce may issue to any person questionnaires, which includes both and initial and supplemental questionnaires. For all investigations initiated after January 15, 2025, the following time limits apply: ³⁸

³⁸ See 19 CFR 351.301(c)(1)(i)-(v).

(i) Initial questionnaire responses are due 30 days from the date of receipt of such questionnaire. The time limit for response to individual sections of the questionnaire, if Commerce requests a separate response to such sections, may be less than the 30 days allotted for response to the full questionnaire. In general, the date of receipt will be considered to be seven days from the date on which the initial questionnaire was transmitted.

(ii) Supplemental questionnaire responses are due on the date specified by Commerce.

(iii) A notification by an interested party, under section 782(c)(1) of the Act, of difficulties in submitting information in response to a questionnaire issued by Commerce is to be submitted in writing within 14 days after the date of the questionnaire or, if the questionnaire is due in 14 days or less, within the time specified by Commerce.

(iv) A respondent interested party may request in writing that Commerce conduct a questionnaire presentation. Commerce may conduct a questionnaire presentation if Commerce notifies the government of the affected country and that government does not object.

(v) Factual information submitted to rebut, clarify, or correct questionnaire responses. Within 14 days after an initial questionnaire response and within 10 days after a supplemental questionnaire response has been filed with Commerce, an interested party other than the original submitter is permitted one opportunity to submit factual information to rebut, clarify, or correct factual information contained in the questionnaire response. Within seven days of the filing of such rebuttal, clarification, or correction to a questionnaire response, the original submitter of the questionnaire response is permitted one opportunity to submit factual information to rebut, clarify, or correct factual information submitted in the interested party's rebuttal, clarification or correction. Commerce will reject any untimely filed rebuttal, clarification, or correction submission and provide, to the extent practicable, written notice stating the reasons for rejection. If insufficient time remains before the due date for the final determination or final results of review, Commerce may specify shorter deadlines under this section.

Extensions of Time Limits

Parties may request an extension of time limits before the expiration of a time limit established under 19 CFR 351.301, or as otherwise specified by Commerce. In general, an extension request will be considered untimely if it is filed after the expiration of the time limit established under 19 CFR 351.301, or as otherwise specified by Commerce.³⁹ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴⁰

³⁹ See 19 CFR 351.302.

⁴⁰ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴¹ Parties must use the certification formats provided in 19 CFR 351.303(g).⁴² Commerce intends to reject factual submissions if the submitting party does not comply with the applicable certification requirements.

⁴¹ See section 782(b) of the Act.

⁴² See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).⁴³

⁴³ See Administrative Protective Order, Service, and Other Procedures in Antidumping and Countervailing Duty Proceedings, 88 FR 67069 (September 29, 2023).

This notice is issued and published pursuant to sections 702 and 777(i) of the Act, and 19 CFR 351.203(c).

Dated: March 18, 2025.
Christopher Abbott,
Deputy Assistant Secretary for Policy and Negotiations, performing the non-exclusive functions and duties of the Assistant Secretary for Enforcement and Compliance.

Appendix

Scope of the Investigations

The merchandise covered by these investigations consists of chassis and subassemblies thereof, whether finished or unfinished, whether assembled or unassembled, whether coated or uncoated, regardless of the number of axles, for carriage of containers, or other payloads (including self-supporting payloads) for road, marine roll-on/roll-off (RORO) and/or rail transport. Chassis are typically, but are not limited to, rectangular framed trailers with a suspension and axle system, wheels and tires, brakes, a lighting and electrical system, a coupling for towing behind a truck tractor, and a locking system or systems to secure the shipping container or containers to the chassis using twistlocks, slide pins or similar attachment devices to engage the corner fittings on the container or other payload.

Subject merchandise includes, but is not limited to, the following subassemblies:

• Chassis frames, or sections of chassis frames, including kingpin assemblies, bolsters consisting of transverse beams with locking or support mechanisms, goosenecks, drop assemblies, extension mechanisms and/or rear impact guards;

• Running gear assemblies or axle assemblies for connection to the chassis frame, whether fixed in nature or capable of sliding fore and aft or lifting up and lowering down, which may or may not include suspension(s) (mechanical or pneumatic), wheel end components, slack adjusters, dressed axles, brake chambers, locking pins, and tires and wheels; and

• Assemblies that connect to the chassis frame or a section of the chassis frame, such as but not limited to, pintle hooks or B-trains (which include a fifth wheel), which are capable of connecting a chassis to a converter dolly or another chassis.

Importation of any of these subassemblies, whether assembled or unassembled, constitutes an unfinished chassis for purposes of these investigations.

Subject merchandise also includes chassis, whether finished or unfinished, entered with components such as, but not limited to: hub and drum assemblies, brake assemblies (either drum or disc), bare axles, brake chambers, suspensions and suspension components, wheel end components, landing gear legs, spoke or disc wheels, tires, brake control systems, electrical harnesses and lighting systems.

Processing of finished and unfinished chassis and components such as trimming, cutting, grinding, notching, punching, drilling, painting, coating, staining, finishing, assembly, or any other processing either in the country of manufacture of the in-scope product or in a third country does not remove the product from the scope. Inclusion of other components not identified as comprising the finished or unfinished chassis does not remove the product from the scope.

Individual components entered and sold by themselves are not subject to the investigations, but components entered with a finished or unfinished chassis are subject merchandise. A finished chassis is ultimately comprised of several different types of subassemblies. Within each subassembly there are numerous components that comprise a given subassembly.

This scope excludes dry van trailers, refrigerated van trailers and flatbed trailers. Dry van trailers are trailers with a wholly enclosed cargo space comprised of fixed sides, nose, floor and roof, with articulated panels (doors) across the rear and occasionally at selected places on the sides, with the cargo space being permanently incorporated in the trailer itself. Refrigerated van trailers are trailers with a wholly enclosed cargo space comprised of fixed sides, nose, floor and roof, with articulated panels (doors) across the rear and occasionally at selected places on the sides, with the cargo space being permanently incorporated in the trailer and being insulated, possessing specific thermal properties intended for use with self-contained refrigeration systems. Flatbed (or platform) trailers consist of load carrying main frames and a solid, flat or stepped loading deck or floor permanently incorporated with and supported by frame rails and cross members.

The finished and unfinished chassis subject to these investigations are typically classified in the Harmonized Tariff Schedule of the United States (HTSUS) at subheadings: 8716.39.0090 and 8716.90.5060. Imports of finished and unfinished chassis may also enter under HTSUS subheading 8716.90.5010. While the HTSUS subheadings are provided for convenience and customs purposes, the written description of the merchandise under investigation is dispositive.

[FR Doc. 2025-04942 Filed 3-21-25; 8:45 am]

BILLING CODE 3510-DS-P